COMMISSION ON CIVIL RIGHTS

Agenda and Notice of Public Meeting of the South Carolina Advisory Committee

Notice is hereby given, pursuant to the provisions of the rules and regulations of the U.S. Commission on Civil Rights, that a meeting of the South Carolina Advisory Committee to the Commission will convene at 1 p.m. and adjourn at 5 p.m. on Thursday, May 31, 2001, at the Adam's Mark Columbia, 1200 Hampton Street, Columbia, South Carolina 29201. The purpose of the meeting is to meet with invited representatives of the South Carolina Department of Education who will update the Committee on the progress and/or problems regarding the implementation of the South Carolina Education Accountability Act of 1998.

Persons desiring additional information, or planning a presentation to the Committee, should contact Bobby D. Doctor, Director of the Southern Regional Office, 404-562-7000 (TDD 404-562-7004). Hearing-impaired persons who will attend the meeting and require the services of a sign language interpreter should contact the Regional Office at least ten (10) working days before the scheduled date of the meeting.

The meeting will be conducted pursuant to the provisions of the rules and regulations of the Commission.

Dated at Washington, DC, May 1, 2001.
Edward A. Hailes, Jr.,
General Counsel.

[FR Doc. 01-11368 Filed 5-4-01; 8:45 am]

BILLING CODE 6335-01-P